DEPARTMENT OF COMMERCE

International Trade Administration

[A-552-802]

Frozen Warmwater Shrimp From Vietnam: Notice of Preliminary Results of Antidumping Duty Changed Circumstances Reviews

AGENCY: Import Administration, International Trade Administration, Department of Commerce.

SUMMARY: On March 18, 2009, the Department of Commerce (“the Department”) published in the Federal Register a notice of initiation of changed circumstances reviews of the antidumping duty order on frozen warmwater shrimp from Vietnam in order to determine whether five companies, Bac Lieu Fisheries Joint Stock Company (“Bac Lieu JSC”), Cadovimex Seafood Import-Export and Processing Joint Stock Company (“Cadovimex Vietnam”), Soc Trang Seafood Joint Stock Company (“STAPIMEX JSC”), Thuan Phuoc Seafoods and Trading Corporation (“Thuan Phuoc JSC”), and UTXI Aquatic Products Processing Corporation (“UTXI Corp.”) (collectively, “Five CCR Companies”) are successors-in-interest, respectively, to Bac Lieu Fisheries Company Limited (“Bac Lieu Limited”), Cai Doi Vam Seafood Import-Export Company (“Cadovimex”), Soc Trang Aquatic Products and General Import Export Company (“STAPIMEX”), Thuan Phuoc Seafoods and Trading Corporation (“Thuan Phuoc SOE”), and UTXI Aquatic Products Processing Company (“UTXI”) (collectively, “Five Original Companies”) for purposes of determining antidumping duty liability. Similarly, on April 14, 2009, the Department published in the Federal Register a notice of initiation of changed circumstances review of the antidumping order in order to determine whether Can Tho Import Export Fishery Limited Company (“CAFISH”) is the successor-in-interest to Can Tho Agricultural and Animal Products Import Export Company (“CATACO”). We have preliminarily determined that Bac Lieu JSC, Cadovimex Vietnam, STAPIMEX JSC, Thuan Phuoc JSC, and UTXI Corp. are the successors-in-interest to the respective Five Original Companies for purposes of determining antidumping duty liability. However, we have preliminarily determined that CAFISH is not the successor-in-interest to CATACO for purposes of determining antidumping duty liability. Interested parties are invited to comment on these preliminary results.

DATES: Effective Date: July 2, 2009.

FOR FURTHER INFORMATION CONTACT: Jerry Huang or Scot T. Fullerton, AD/CVD Operations, Office 9, Import Administration, International Trade Administration, U.S. Department of Commerce, 1401 Constitution Avenue, NW., Washington, DC 20230; telephone: 202-482-4047 or 202-482-1386, respectively.

Background

The Department published in the Federal Register the antidumping duty order for frozen warmwater shrimp from Vietnam on February 1, 2005. See Notice of Amended Final Determination of Sales at Less Than Fair Value and Antidumping Duty Order: Certain Frozen Warmwater Shrimp From the Socialist Republic of Vietnam, 70 FR 5152, 5154-55 (February 1, 2005) (“Order”). As part of the Order, all six companies, Bac Lieu Limited, Cadovimex, STAPIMEX, Thuan Phuoc SOE, UTXI, and CATACO received a separate antidumping duty cash deposit rate of 4.57 percent. Id.

On January 26, 2009, STAPIMEX JSC, and on January 27, 2009, UTXI Corp., filed submissions requesting that the Department conduct changed circumstances reviews of the antidumping duty order on frozen warmwater shrimp from Vietnam claiming, respectively, that STAPIMEX JSC is the successor-in-interest to STAPIMEX,¹ and that UTXI Corp. is the successor-in-interest to UTXI,² in accordance with section 751(b) of the Tariff Act of 1930, as amended (“the Act”) and 19 CRF 351.216. Then on February 4, 2009, Cadovimex-Vietnam, on February 5, 2009, Thuan Phuoc JSC, and on February 6, 2009, Bac Lieu JSC, filed submissions requesting that the Department conduct changed circumstances reviews of the antidumping duty order claiming, respectively, that Cadovimex-Vietnam is the successor-in-interest to Cadovimex,³ that Thuan Phuoc JSC is the successor-in-interest to Thuan Phuoc SOE,⁴ and that Bac Lieu JSC is the successor-in-interest to Bac Lieu Limited.⁵ In their submissions, the Five CCR Companies provided information regarding the events leading to each company's transition from the Five Original Companies. Specifically, Cadovimex-Vietnam, STAPIMEX JSC, and Thuan Phuoc JSC provided documentation relating to their change from State-owned enterprises (“SOEs”) to joint stock companies (“JSCs”), while Bac Lieu JSC and UTXI Corp. provided documentation relating to their change from limited liability companies (“LLCs”) to JSCs. In addition, all five companies provided documentation relating to their ownership structures and management, production facilities, supplier relationships, and customer bases, among other things. In response to these requests, the Department initiated changed circumstances reviews of the Five CCR Companies on March 18, 2009. See Certain Frozen Warmwater Shrimp from Socialist Republic of Vietnam: Initiation of Changed Circumstances Reviews, 74 FR 11527 (March 18, 2009) (“Initiation Notice”).

¹ See STAPIMEX JSC's submission to the Department regarding Certain Frozen Warmwater Shrimp from Vietnam: Request for Changed Circumstances Review, January 26, 2009 (“STAPIMEX JSC's CCR Request”).

² See UTXI Corp.'s submission to the Department regarding Certain Frozen Warmwater Shrimp from Vietnam: Request for Changed Circumstances Review, January 27, 2009 (“UTXI Corp.'s CCR Request”).

³ See Cadovimex-Vietnam's submission to the Department regarding Certain Frozen Warmwater Shrimp from Vietnam: Request for Changed Circumstances Review, February 4, 2009 (“Cadovimex-Vietnam's CCR Request”).

⁴ See Thuan Phuoc JSC's submission to the Department regarding Certain Frozen Warmwater Shrimp from Vietnam: Request for Changed Circumstances Review, February 5, 2009 (“Thuan Phuoc JSC's CCR Request”).

⁵ See Bac Lieu JSC's submission to the Department regarding Certain Frozen Warmwater Shrimp from Vietnam: Request for Changed Circumstances Review, February 6, 2009 (“Bac Lieu JSC's CCR Request”).

On March 13, 2009, CATACO filed a submission requesting that the Department conduct a changed circumstances review of the antidumping duty order claiming that CAFISH is the successor-in-interest to CATACO's shrimp processing operation.⁶ In its submission, CATACO provided information regarding the formation of its seafood factory as a separate JSC, Cantho Import-Export Seafood Joint Stocks Company (“CASEAMEX”). CATACO provided additional information regarding the subsequent further separation of CASEAMEX's shrimp processing operation which formed a joint venture with an unaffiliated shrimp processing company that transferred that company's shrimp operation to the joint factory, which is named CAFISH. In addition, CATACO provided documentation relating to, among other things, CAFISH's ownership structure and management, production facilities, supplier relationships, and customer bases. In response to CATACO's request, the Department initiated a changed circumstances review on April 14, 2009. See Certain Frozen Warmwater Shrimp from the Socialist Republic of Vietnam: Initiation of Changed Circumstances Review, 74 FR 17156 (April 14, 2009) (“CATACO Initiation Notice”).

⁶ See CATACO's submission to the Department regarding Certain Frozen Warmwater Shrimp from Vietnam: Request for Changed Circumstances Review, March 14, 2009 (“CATACO's CCR Request”).

Scope of Order

The scope of this order includes certain warmwater shrimp and prawns, whether frozen, wild-caught (ocean harvested) or farm-raised (produced by aquaculture), head-on or head-off, shell-on or peeled, tail-on or tail-off,⁷ deveined or not deveined, cooked or raw, or otherwise processed in frozen form.

⁷ “Tails” in this context means the tail fan, which includes the telson and the uropods.

The frozen warmwater shrimp and prawn products included in the scope of this investigation, regardless of definitions in the Harmonized Tariff Schedule of the United States (“HTS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this investigation. In addition, food preparations, which are not “prepared meals,” that contain more than 20 percent by weight of shrimp or prawn are also included in the scope of this investigation.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to individually quick frozen (“IQF”) freezing immediately after application of the dusting layer. Battered shrimp is a shrimp-based product that, when dusted in accordance with the definition of dusting above, is coated with a wet viscous layer containing egg and/or milk, and par-fried.

The products covered by this investigation are currently classified under the following HTS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTS subheadings are provided for convenience and for customs purposes only and are not dispositive, but rather the written description of the scope of this investigation is dispositive.

Preliminary Results of the Reviews

In making a successor-in-interest determination, the Department examines several factors including but not limited to changes in the following: (1) Management; (2) production facilities; (3) supplier relationships; and (4) customer base. See, e.g., Notice of Final Results of Changed Circumstances Antidumping Duty Administrative Review: Polychloroprene Rubber From Japan, 67 FR 58 (January 2, 2002), and Brass Sheet and Strip from Canada: Final Results of Antidumping Duty Administrative Review, 57 FR 20460, 20461 (May 13, 1992). While no single factor or combination of factors will necessarily provide a dispositive indication of a successor-in-interest relationship, generally the Department will consider the new company to be the successor to the previous company if the new company's resulting operation is not materially dissimilar to that of its predecessor. See, e.g., Fresh and Chilled Atlantic Salmon from Norway; Final Results of Changed Circumstances Antidumping Duty Administrative Review, 64 FR 9979 (March 1, 1999), and Industrial Phosphoric Acid from Israel; Final Results of Changed Circumstances Review, 59 FR 6944, 6945 (February 14, 1994). Thus, if the record evidence demonstrates that, with respect to the production and sale of the subject merchandise, the new company operates as the same business entity as the predecessor company, the Department may assign the new company the cash-deposit rate of its predecessor.

In accordance with 19 CRF 351.221(c)(3)(i), we preliminarily determine that Bac Lieu JSC, Cadovimex-Vietnam, STAPIMEX JSC, Thuan Phuoc JSC, and UTXI Corp. are the respective successors-in-interest to the Five Original Companies. In their respective submissions, each of the Five CCR Companies provided evidence supporting their claim to be the successor-in-interest to the Five Original Companies. Documentation attached to their submissions shows that the changes in corporation type from either SOE or LLC to JSC resulted in little or no change in management, production facilities, supplier relationships, or customer base. See the proprietary version of the Memorandum to File from Jerry Huang, International Trade Compliance Analyst AD/CVD Office 9, Through Scot T. Fullerton, Program Manager, AD/CVD Office 9, Analysis Memo for Preliminary Determination of Antidumping Duty Changed Circumstances Review: Frozen Warmwater Shrimp from Vietnam (“Analysis Memo”), pp 3-7, June 25, 2009, for further detail. If the above preliminary results are affirmed in the Department's final results, the cash deposit rates most recently calculated for the Five Original Companies will apply to all entries of subject merchandise made by the Five CCR Companies, entered or withdrawn from warehouse, for consumption on or after the date of publication of the final results of this changed circumstances review. See, e.g., Granular Polytetrafluoroethylene Resin from Italy: Final Results of Changed Circumstances Review, 68 FR 25327 (May 12, 2003). These cash deposit rates, if imposed, shall remain in effect until further notice.

Also in accordance with 19 CRF 351.221(c)(3)(i), we preliminarily determine that CAFISH is not the successor-in-interest to CATACO. In its March 13, 2009, submission, the information and evidence CATACO provided do not support the claim that CAFISH is the successor-in-interest to CATACO's shrimp factory. The documentation attached to CATACO's submission shows significant changes in all key categories that the Department considers in successor-in-interest determinations. That is, in terms of management, production facilities, supplier relationships, and customer base, the documentation shows that CAFISH is materially dissimilar from CATACO's shrimp factory. In addition, CAFISH continues to conduct its sales to the United States through CATACO, thus CATACO remains an active exporter of the subject merchandise. See Analysis Memo, pp. 6-7. Thus we preliminarily find that CAFISH should not receive CATACO's current separate rate and that the cash deposit rate for the subject merchandise exported and manufactured by CAFISH should continue to be the current Vietnam-wide rate.

Public Comment

Any interested party may request a hearing within 10 days of publication of this notice in accordance with 19 CFR 351.310(c). Interested parties may submit case briefs no later than 14 days after the date of publication of this notice, in accordance with 19 CFR 351.309(c)(1)(ii). Rebuttal briefs, limited to issues raised in the case briefs, may be filed no later than 5 days after the case briefs, in accordance with 19 CFR 351.309(d)(1). Any hearing, if requested, will normally be held two days after rebuttal briefs are due, in accordance with 19 CFR 351.310(d)(1). The Department will issue its final results of review within 270 days after the date on which the changed circumstances review was initiated, or within 45 days if all parties to the proceeding agree to the outcome of the review, in accordance with 19 CFR 351.216(e), and will publish these results in the Federal Register.

This notice is published in accordance with sections 751(b)(1) and 777(i) of the Act and 19 CFR 351.216 of the Department's regulations.

Dated: June 25, 2009.
Ronald K. Lorentzen,
Acting Assistant Secretary for Import Administration.

[FR Doc. E9-15702 Filed 7-1-09; 8:45 am]

BILLING CODE 3510-DS-P